DEPARTMENT OF LABOR

Employment and Training Administration

Proposed Information Collection Request Submitted for Public Comment and Recommendations; Correction

SUMMARY: In notice document 01-11011 (66 FR 22009) beginning on page 22009 in the issue of Wednesday, May 2, 2001, make the following correction:

On page 22009 in the second column, the Background should be changed to read: “Background: Form ETA-9042, Petition for NAFTA Transitional Adjustment Assistance, establishes the format which has been used by the Governor to facilitate such filings.”

On page 22009 in the third column, under Current Actions, the Title should be changed to read: “Petition for NAFTA-Transitional Adjustment Assistance.”

On page 22009 in the third column the OMB Number should be changed to read: “1205-0342.”

On page 22009 in the third column the Agency Number should be changed to read: “ETA 9042 and ETA 9042-1.”

On page 22009 in the third column the Affected Public should read: “Individuals or Households.”

Dated: May 4, 2001.
Linda G. Poole,
Certifying Officer, Division of Trade Adjustment Assistance.

[FR Doc. 01-11632 Filed 5-8-01; 8:45 am]

BILLING CODE 4510-30-M